DEPARTMENT OF TRANSPORTATION

Federal Aviation Administration

14 CFR Parts 61 and 183

[Docket No.: FAA-2010-1127; Amdt. Nos. 61-135 and 183-15]

RIN 2120-AJ42

Student Pilot Application Requirements

AGENCY: Federal Aviation Administration (FAA), DOT.

ACTION: Final rule.

SUMMARY: This action requires applicants to apply for a student pilot certificate through a Flight Standards District Office, designated pilot examiner, airman certification representative associated with a pilot school, or certified flight instructor. Aviation Medical Examiners will no longer issue a combination medical certificate and student pilot certificate. Student pilot certificates will be issued on the same medium as other pilot certificates and will have no expiration date. All student pilot certificates issued before the effective date of this final rule will expire according to their terms unless they are replaced by another pilot certificate. This final rule responds to section 4012 of the Intelligence Reform and Terrorism Prevention Act and facilitates security vetting by the Transportation Security Administration of student pilot applicants prior to certificate issuance. This action withdraws the proposal for pilot certificates to include a photograph of the individual pilot. Section 321 of the FAA Modernization and Reform Act of 2012 supersedes section 4022 of the Intelligence Reform and Terrorism Prevention Act, which provided the basis for the proposed rule. The FAA intends to publish in the future a proposed rule that would implement section 321. Additionally, this action withdraws the proposal to implement fees for pilot certificates.

DATES: This rule is effective April 1, 2016.

ADDRESSES: For information on where to obtain copies of rulemaking documents and other information related to this final rule, see “How to Obtain Additional Information” in the SUPPLEMENTARY INFORMATION section of this document.

FOR FURTHER INFORMATION CONTACT: Trey McClure, Airmen Certification and Training Branch, AFS-810, Flight Standards Service, Federal Aviation Administration, 55 M Street SE., 8th Floor, Washington, DC 20003; telephone (202) 267-1100; email trey.mcclure@faa.gov.

SUPPLEMENTARY INFORMATION:

Table of Contents

I. Executive Summary

A. Purpose of Action

B. Student Pilot Application Requirements: Summary of Current, Proposed, and Finalized Provisions

C. Costs and Benefits of the Final Rule

II. Authority for This Rulemaking

III. Background

A. Congressional Mandate

B. Related Actions

C. Summary of the NPRM

D. General Overview of Comments

E. Summary of Final Rule

IV. Discussion of Public Comments and Final Rule

A. Photo on Pilot Certificates

B. Application Process for Pilot Certificates With Photo Other Than Student Pilot Certificates

C. Requiring Student Pilots To Obtain a Plastic Pilot Certificate

D. Duration of Photo on Pilot Certificate

E. Fees for Issuing Pilot Certificates With Photo

F. Implementation Process

G. Regulatory Evaluation

H. Miscellaneous Comments

1. Redesigning Pilot Certificate

2. Proposed § 61.3—Requirements for Certificates, Ratings, and Authorizations

V. Regulatory Notices and Analyses

A. Regulatory Evaluation

B. Regulatory Flexibility Determination

C. International Trade Impact Assessment

D. Unfunded Mandates Assessment

E. Paperwork Reduction Act

F. Privacy Impact Assessment

G. International Compatibility and Cooperation

H. Environmental Analysis

VI. Executive Order Determinations

A. Executive Order 12866

B. Executive Order 13132, Federalism

C. Executive Order 13211, Regulations That Significantly Affect Energy Supply, Distribution, or Use

D. Executive Order 13609, Promoting International Regulatory Cooperation

VII. How To Obtain Additional Information

A. Rulemaking Documents

B. Comments Submitted to the Docket

C. Small Business Regulatory Enforcement Fairness Act

Abbreviations Frequently Used in This Document

ACR—Airman certification representative

AME—Aviation medical examiner

ASI—Aviation safety inspector

AST—Aviation safety technician

CFI—Certified flight instructor

DPE—Designated pilot examiner

FSDO—Flight standards district office

IRTPA—Intelligence Reform and Terrorism Prevention Act

KTC—Knowledge testing center

NPRM—Notice of proposed rulemaking

I. Executive Summary

A. Purpose of Action

As discussed in greater detail throughout this document, this rulemaking requires student pilots to apply for, obtain, and carry a plastic pilot certificate to exercise the privileges of the pilot certificate. Additionally, it modifies the process by which student pilots apply for a certificate. This rulemaking withdraws the proposals to require all pilots to carry a pilot certificate with a photo of the pilot and to implement a fee structure for pilot certificates. A comparison of current requirements, requirements proposed in the November 19, 2010 notice of proposed rulemaking (NPRM) (75 FR 70871), and new requirements adopted by this final rule are included in the following table.

B. Student Pilot Application Requirements: Summary of Current, Proposed, and Finalized Provisions

Scenario | Current regulations | 2010 NPRM | Final rule requirements
Digital Photos on all Pilot Certificates | • No photo on pilot certificate • Pilot must have photo identification on the person and in the physical possession or readily accessible in the aircraft when exercising the privileges of the pilot certificate or authorization | • Photo on pilot certificate • Pilot must carry pilot certificate with photo according to proposed implementation schedule | • No change from current regulations.
Application and Certificate Issuance | • A student pilot typically obtains a combination medical certificate and student pilot certificate from an aviation medical examiner (AME) • A student pilot applicant may obtain a student pilot certificate from an aviation safety inspector (ASI) or aviation safety technician (AST) located at a Flight Standards District Office (FSDO) throughout the country • A student pilot applicant may obtain a student pilot certificate from a designated pilot examiner (DPE) | • A student pilot applicant would not be issued a student pilot certificate at the time of application • A student pilot must obtain a student pilot certificate that is issued by the Civil Aviation Registry prior to exercising the privileges of the student pilot certificate • An AME would not issue a combination medical certificate and student pilot certificate or accept an application for a student pilot certificate • A student pilot applicant could apply in person with an ASI or AST at a FSDO • A student pilot applicant could apply in person with a DPE | • A student pilot applicant would not be issued a student pilot certificate at the time of application. • A student pilot must obtain a student pilot certificate that is issued by the Civil Aviation Registry prior to exercising the privileges of the student pilot certificate. • An AME would not issue a combination medical certificate and student pilot certificate or accept an application for a student pilot certificate. • A student pilot applicant could apply in person with an ASI or AST at a FSDO.
|  | • A student pilot applicant could apply in person at a Knowledge Testing Center (KTC) | • A student pilot applicant could apply in person with a DPE. • A student pilot applicant may apply in person at with an airman certification representative (ACR) associated with a part 141 pilot school. • A student pilot applicant may apply in person with a certified flight instructor (CFI).
Implementation Schedule | • None previously required. Proposals were based upon the implementation of digital photos on all pilot certificates | • A 5-year phased implementation schedule that included a “trigger-based” approach to issue pilot certificates with photos to people interacting with the FAA and a “non-trigger based” approach that required pilots to obtain a pilot certificate with a photo during a 3-, 4-, or 5-year period depending on the type of certificate • An effective date of the first day of the calendar month following 60 days from the date of publication in the Federal Register | • An effective date of 180 days from the date of publication in the Federal Register. • Current student pilot certificate holders may continue exercising the privileges of the student pilot certificate until the certificate expires according to its current terms. • The FAA will charge a $2 fee for replacement of a pilot certificate including a student pilot certificate which is consistent with existing § 187.5.
Fees | • The FAA charges a $2 fee for replacement, duplicate, or facsimile of a pilot certificate | • The FAA would charge $22 for initial issuance or renewal of a pilot certificate
Expiration date | • The student pilot certificate is valid for a period of 24 or 60 calendar months after the date of issuance, depending on the age of the student pilot | • The student pilot certificate would have no expiration date, although the photo would need to be updated every 8 years to continue exercising privileges of the student pilot certificate | • The student pilot certificate has no expiration date.
Student Pilot Endorsements | • Flight Instructor endorses the student pilot certificate and the student's logbook | • Flight Instructor would endorse the student's logbook | • Flight Instructor endorses the student's logbook.

C. Costs and Benefits of the Final Rule

The FAA estimates that the total costs for the final rule will be from $17 to $20.9 million over a ten-year period (2015-2024), which has a present value of $12.2 to $14.9 million using a 7 percent discount rate and has a present value of $14.7 to $18 million using a 3 percent discount rate.

Total costs to student pilots, including the time to complete and process paperwork, will be from $7.1 to $11 million during the next ten years, which has a present value of $5 to $7.7 million using a 7 percent discount rate and has a present value of $6.1 to $9.4 million using a 3 percent discount rate.

The FAA, in turn, will incur total unreimbursed costs of about $9.8 million to process the information, which has a present value of about $7.1 million using a 7 percent discount rate and has a present value of $8.5 million using a 3 percent discount rate.

Some authorized individuals ¹ will incur about $70,000 over the next 10 years in mailing expenses to send student pilot applications to FAA's Civil Aviation Registry, which has a present value of about $50,000 using a 7 percent discount rate and has a present value of $60,000 using a 3 percent discount rate.

¹ As discussed later in this document, an authorized individual is an ASI or AST at a FSDO, a DPE, an ACR associated with a part 141 pilot school, or a CFI who may accept a student pilot certificate application and verify the applicant's identity.

This rulemaking facilitates security vetting of all pilot certificate applicants before the FAA issues a pilot certificate. The FAA notes that following the direction of Congress provides a sufficient reasoned determination to justify the costs. These potential benefits are not quantifiable. The following table provides a summary of the cost-benefit analysis.

Table of Costs and Benefits of the Final Rule
[2015-2024]
Affected group | Total cost: Lower | Total cost: Upper | Present value: 7 Percent: Lower | Present value: 7 Percent: Upper | Present value: 3 Percent: Lower | Present value: 3 Percent: Upper
| (Millions, 2014 $)
Student Pilots | $7.1 | $11.0 | $5.0 | $7.7 | $6.1 | $9.4
FAA | $9.8 |  | $7.1 |  | $8.5
Authorized Individuals | $0.07 |  | $0.05 |  | $0.06
Total | $17.0 | $20.9 | $12.2 | $14.9 | $14.7 | $18.0

| Total benefits | PV benefits
Total Social Benefit | Not quantifiable

Note: The sum of individual items may not equal totals due to rounding.

II. Authority for This Rulemaking

The FAA's authority to issue rules on aviation safety is found in Title 49 of the United States Code. Subtitle I, Section 106 describes the authority of the FAA Administrator. Subtitle VII, Aviation Programs, describes in more detail the scope of the agency's authority.

Under Subtitle VII, Part A, Subpart iii, Section 44703(b)(1)(C), the FAA may define the terms of an airman certificate that the FAA Administrator finds necessary to ensure safety in air commerce. Additionally, Subtitle VII, Part A, Subpart iii, Section 44703(g)(1) permits modifications to the airman certification system to make it more efficient in serving the needs of those enforcing laws related to combating acts of terrorism by ensuring verifiable identification of individuals applying for airman certificates. In Section 4012(a)(1) of the Intelligence Reform and Terrorism Prevention Act (IRTPA),² Congress required the Transportation Security Administration (TSA), in coordination with the FAA, to vet individuals against the terrorist watch lists prior to FAA certificate issuance.

² Public Law 108-458, 118 Stat. 3638 (Dec. 17, 2004) (codified at 49 U.S.C. 44903(j)(2)(D)).

This rulemaking is within the scope of that authority because it facilitates security vetting of all pilot certificate applicants before the FAA issues a pilot certificate.

III. Background

A. Congressional Mandate

On December 17, 2004, the President signed IRTPA. Section 4022 of that law requires the FAA to issue improved pilot certificates that (1) are resistant to tampering, altering, or counterfeiting; (2) include a photograph of the individual to whom the certificate is issued; and (3) are capable of accommodating a digital photograph, a biometric identifier, or any other unique identifier the FAA Administrator considers necessary. The law also allows the Administrator to use designees to carry out this mandate. IRTPA also amended Title 49 of the United States Code by requiring TSA, in coordination with the FAA, to screen individuals “against all appropriate records in the consolidated and integrated terrorist watchlist maintained by the Government before being certificated by the FAA.” ³

³ 49 U.S.C. 44903(j)(2)(D).

On February 14, 2012, the President signed the FAA Modernization and Reform Act of 2012.⁴ Section 321 of that law directs the FAA to issue improved pilot certificates consistent with certain requirements. The improved pilot certificates must be compliant with Federal Information Processing Standards-201 (FIPS-201) or Personal Identity Verification—Interoperability Standards (PIV-I) for processing through security checkpoints into airport sterile areas. The certificates must be resistant to tampering, alteration, and counterfeiting; must include a photograph of the individual to whom the certificate is issued for identification purposes; and must be a smart card, which is able to accommodate iris and fingerprint biometric identifiers. Additionally, section 122 of that Act directs the FAA to establish and collect fees for certain airman certification and aircraft registration activities to recover the cost of providing those services.

⁴ Public Law 112-95, 126 Stat. 11 (Feb. 14, 2012).

Sections 321 and 122 supersede the authority under which the FAA published the NPRM proposing to implement the requirements of IRTPA. Accordingly, the FAA withdraws the portions of the proposal that address photographs and fees for certificate issuance. The FAA has initiated other rulemakings to address the requirements stemming from sections 321 (RIN 2120-AK33) and 122 (RIN-2120-AK37). The FAA is issuing this final rule to address the requirements in section 4012 of IRTPA to ensure vetting of all student pilots prior to certificate issuance.

B. Related Actions

The Federal Aviation Administration Drug Enforcement Assistance Act of 1988 (“DEA Act”),⁵ identified deficiencies in the FAA's aircraft registration and pilot certification systems.⁶ The FAA published an NPRM to address the deficiencies but withdrew the NPRM after determining that technological improvements could accomplish most requirements of the DEA Act.⁷ As part of the technological improvements, the FAA discontinued issuing paper pilot certificates and began issuing plastic pilot certificates in 2003. The plastic certificates are made of high quality plastic card stock and contain such tamper- and counterfeit-resistant features as micro printing, a hologram, and a UV-sensitive layer as well as a magnetic strip that contains a unique identifier.

⁵ Public Law 100-690, 102 Stat. 4181 (Nov. 18, 1988).

⁶ See sections 7203(a) and 7205(a), Public Law 100-690.

⁷ 70 FR 72403 (Dec. 5, 2005).

On January 5, 2007, the FAA published the Drug Enforcement Assistance NPRM.⁸ That NPRM proposed changes to the airman certification and aircraft registration requirements to comply with the mandates of the DEA Act that could not be completed without rulemaking. Among other requirements, the NPRM proposed requiring holders of pilot certificates and other airmen certificates to hold a plastic certificate to exercise the privileges of that certificate.

⁸ 72 FR 489.

On February 28, 2008, the FAA published the Drug Enforcement Assistance final rule (“the DEA final rule”).⁹ In that rule, the FAA required all pilots, except student pilots, to obtain a plastic certificate by March 31, 2010. After that date, pilots without plastic certificates could not exercise the privileges of their certificates. The DEA final rule also satisfied the IRTPA requirement to issue pilot certificates that are resistant to tampering, altering, and counterfeiting.

⁹ 73 FR 10662.

C. Summary of the NPRM

On November 19, 2010, the FAA published an NPRM titled “Photo Requirements for Pilot Certificates.” ¹⁰ The NPRM proposed to further fulfill the requirements of section 4022 of the IRTPA by requiring a photo of the pilot on all plastic pilot certificates, including student pilot certificates. The FAA also proposed a $22 fee to process an application for: (1) Exchanging an existing certificate without a photo for a certificate with photo; (2) issuing a new pilot certificate or student pilot certificate; and (3) replacing a pilot certificate with photo whenever a replacement certificate is requested by a pilot or required by regulation. The FAA proposed that pilots be required to update their photo every 8 years.

¹⁰ 75 FR 70871.

The FAA proposed to begin issuing a pilot certificate with photo to applicants for a new pilot certificate once the rule became effective. To minimize the burden of reissuance on existing certificate holders, the FAA proposed a 5-year implementation period. During the implementation period, the FAA proposed that pilots be required to exchange their non-photo pilot certificates for pilot certificates with photo when they interacted with the FAA. These “triggering events” included activities such as upgrading a certificate, obtaining or renewing a flight instructor certificate, or replacing a pilot certificate due to change of name, citizenship, date of birth, or change of gender. For pilots who would not otherwise have a need to interact with the FAA during the implementation period, the FAA proposed a phased approach, with different compliance dates for different categories of pilots.

The NPRM also described the proposed process for submitting an application for a pilot certificate with photo. To receive their initial pilot certificates with photo, the FAA proposed that all pilots appear in person to have their identities verified. The FAA proposed allowing FSDOs or other approved FAA designees such as DPEs or KTCs to accept the applications and verify pilots' identities. Pilots would still be able to replace lost or destroyed certificates with or without photo by mail or via the Airman Certification Branch's Web page on the FAA Web site.

The proposed rule applied to all pilots, including student pilots. The FAA proposed that student pilots obtain a plastic certificate with photo instead of a paper certificate. The plastic pilot certificate with photo would not have an expiration date. However, the FAA proposed that certificate holders be required to submit a new photo every 8 years. Because the student pilot certificate would be plastic and contain a photo, the FAA proposed that AMEs no longer issue student pilot certificates or combination medical certificates and student pilot certificates. Students would continue to receive their medical certificates from AMEs but would go to a FSDO, DPE, KTC, or other approved FAA designee to apply for a student pilot certificate with photo. Additionally, because the new student pilot certificates would be plastic, the FAA proposed that flight instructors endorse only students' logbooks.

D. General Overview of Comments

The FAA received approximately 470 comments to the NPRM. Most were from individual pilots. In addition, the agency received comments from Transport Canada, the Society of Aviation and Flight Educators (SAFE), the National Association of Flight Instructors (NAFI), the Air Line Pilots Association (ALPA), the Helicopter Association International (HAI), the Aircraft Owners and Pilots Association (AOPA), the Experimental Aircraft Association (EAA), the National Air Transportation Association (NATA), and the United States Pilots Association (USPA). Most of the commenters opposed the concept of adding a photo to the pilot certificate, as well as the proposal to require student pilots to have a certificate with a photo. Commenters also suggested changes to the proposals, which are discussed more fully later in this document.

The FAA received comments on the following general areas of the proposal:

• Requirement of a photo on pilot certificates.

• Fees for obtaining new, replacement, or renewed a pilot certificate with photo.

• Inclusion of students in the requirement to have certificates with photo.

• Duration of the photo on the certificate.

• Application process for new, replacement, or renewed pilot certificates with photo.

• Implementation process using “trigger” events and phased deadlines.

• Regulatory evaluation.

• Lack of security benefits by adding a photograph.

E. Summary of Final Rule

This rule adopts the proposal to require student pilots to carry a plastic certificate and apply in person for a student pilot certificate at a FSDO, through a DPE, with an ACR associated with a part 141 pilot school, or with a CFI. This rule withdraws the remaining proposals.

Student pilots will receive plastic student pilot certificates instead of a paper student pilot certificate or combination medical certificate and student pilot certificate. The cost to replace a student pilot certificate will be $2, the same as other certificates. This current nominal fee defrays part of the Registry's cost of replacing the pilot certificate. The plastic certificates will not expire, which will give the student unlimited time to complete training without having to apply for another student pilot certificate.

AMEs no longer will issue a combination medical certificate and student pilot certificate or accept an application for a student pilot certificate. An applicant must appear in person to apply for a student pilot certificate at a FSDO, through a DPE, with an ACR associated with a part 141 pilot school, or with a CFI. The Civil Aviation Registry will send a plastic student pilot certificate to the applicant after successful completion of security vetting by TSA. Receipt of a student pilot certificate is required prior to exercising the privileges of a student pilot certificate (i.e., prior to solo flight). Finally, because the student pilot certificate will be plastic, flight instructors will endorse only students' logbooks instead of their certificates and logbooks. After April 1, 2016, CFIs no longer must endorse a student pilot certificate regardless of certificate media. Thus, all endorsements for student pilots will be placed in the logbook. The validity period of a CFI's endorsement for a student pilot will remain unchanged at 90 days.

Student pilots who have been issued a paper student pilot certificate or combination medical certificate and student pilot certificate may continue to use their paper certificate. These currently-issued student pilot certificates will expire according to the requirements of § 61.19(b).¹¹ Holders of a paper student pilot certificate (FAA form 8710-2 or FAA Form 8420-2 Medical Certificate and Student Pilot Certificate) may request from the Civil Aviation Registry a replacement (plastic) student pilot certificate that does not expire for a $2 fee, which is the current charge for a replacement.

¹¹ Regardless of whether the student pilot is issued a student pilot certificate or combination medical certificate and student pilot certificate, the student pilot certificate expires under a calculation from the medical certificate examination date according to the requirements of § 61.19(b), which is either 24 or 60 calendar months from the date of the medical examination, depending on the age of the pilot.

IV. Discussion of Public Comments and Final Rule

A. Photo on Pilot Certificates

In the NPRM, the FAA proposed to include a photo of the individual pilot on all pilot certificates to comply with section 4022 of IRTPA.

A total of 382 comments specifically addressed the issue of adding a photo to pilot certificates. Of these commenters, only 47 commenters supported the idea. Most of the supportive commenters stated that the proposal would ensure the certificate holder is who he or she claims to be and make certificates more difficult to forge. A few believed the addition of a photo would make the pilot certificate appear more “professional.” The remainder expressed support for adding a photo without providing a reason. NAFI and NATA were among the supporters of adding a photo to the pilot certificate, but they expressed concern over some of the other proposals in the NPRM and suggested some changes. An additional four commenters, including EAA, supported the idea of a photo on the pilot certificate only if compliance was voluntary. Three commenters suggested also adding a photo to other certificates, such as mechanic and repairman certificates.

A total of 335 commenters, including USPA, opposed the proposal to add a photo to the pilot certificate. Most of these commenters stated the current requirement to carry a form of government-issued photo identification in addition to the pilot certificate was simple, adequate, and should be continued. Many claimed the proposal would do nothing to increase security or safety, because certificates could still be forged, and a determined terrorist would not be deterred. Others stated that a photo on a certificate would not increase security because pilots were seldom, if ever, asked to present a pilot certificate before flying. Additionally, 10 commenters, including SAFE, NAFI, and AOPA, stated that the proposal would not effectively increase security or meet the requirements of IRTPA because the certificate would lack a biometric other than a photo.

Thirty-one commenters proposed exemptions for certain categories of non-student pilots, such as flight instructors, sport pilots, and any already-certificated pilots. These commenters included SAFE, NAFI, HAI, and AOPA, who all called for exempting flight instructor certificates because those certificates must be renewed every 2 years. The commenters also stated that requiring instructors to pay the proposed certificate renewal fee more frequently than other pilots would impose an unfair burden on this pilot population. Additionally, because flight instructor certificates are not valid without an underlying pilot certificate, these organizations believed requiring a photo on the flight instructor certificates would be redundant. ALPA requested an exemption for part 121 and 135 pilots, stating that extensive background checks and TSA-issued credentials mean these pilots are less of a security threat than other pilots.

Eleven commenters, including SAFE, supported pilot certificates with photo only if the new certificate provided additional benefits, such as allowing access through TSA checkpoints or replacing airport-specific badges. Many of these commenters stated that pilots would be unwilling to pay a fee for the certificate with photo unless they saw a substantial personal benefit, such as allowing unescorted access to airports or faster checkpoint clearance. SAFE commented that if the FAA were to modify the pilot certificate in a manner that would be compliant with TSA security requirements, such as adding “smart card” or biometric features, the pilot certificate might be able to replace the airport-specific badges pilots currently must carry. Carrying one card instead of several would reduce the burden on pilots.

As discussed earlier, sections 321 and 122 of Public Law 112-95, which was enacted while this rulemaking was pending, supersedes section 4022 of IRTPA. Accordingly, the FAA withdraws the proposals to include a photo of the pilot on the pilot certificate and the proposed $22 pilot certificate fee. The FAA has initiated other rulemakings to address sections 321 and 122.

B. Application Process for Pilot Certificates With Photo Other Than Student Pilot Certificates

Currently, pilots must appear in person in order to upgrade a certificate or to add a rating. Additionally, a pilot who wants to change any vital information on the certificate must also appear in person. The FAA requires pilots to appear in person before an FAA ASI, AST, or an approved designee in these instances because they involve identity verification; an examination of skills or knowledge; verification of records; or a combination of these requirements. If a pilot certificate is lost or destroyed, the pilot may apply for a replacement online or by mail under current rules.

In the NPRM, the FAA proposed that pilots must appear in person for the purpose of identity verification in the following circumstances: when applying for a non-student pilot certificate with photo for the first time; when changing vital information on the certificate (such as name, date of birth, citizenship, or gender); and when upgrading a certificate or adding a rating. For these in-person applications, the FAA proposed that a pilot must appear at a FSDO or an FAA designee. Applicants would also need to provide a photo as part of the application process. For a replacement of a lost or destroyed pilot certificate, a pilot could submit an application in person, through the mail, or online.

Two commenters stated that the proposed non-student pilot certificate application process was adequate and would not impose a burden on pilots. Twenty-seven commenters stated that the proposed application process was too burdensome for pilots. They claimed that the hours of operation for FSDOs are inconvenient for most people, and that scheduling an appointment is difficult. They also asserted that many pilots live far away from FSDOs or FAA designees. Commenters contended the travel distance, fuel costs, time away from work, and possible hotel room costs incurred while traveling to a FSDO or approved FAA designee would put a financial strain on pilots. Additionally, commenters claimed that allowing DPEs to charge an unspecified fee for accepting applications would further increase the financial cost to pilots. Other commenters noted the difficulty of finding an FAA designee in foreign countries.

Sixty-eight commenters suggested improvements to the proposed application process. Of these commenters, 23 suggested using State Department of Motor Vehicle (DMV) offices in some way, since those offices have experience producing identifications with photos and most pilots already use DMVs to obtain driver's licenses. For instance, commenters suggested the FAA could designate DMVs as portals for accepting pilot certificate applications, or even authorize DMVs to issue pilot certificates. Some believed the FAA should access DMVs' databases and use those photos on pilot certificates, thus eliminating the need for pilots to provide an additional photo for their pilot certificates.

The second most common suggestion was for the FAA to make the pilot certificate application process web-based. Twenty commenters stated that it would be more convenient and less costly for pilots to submit applications and photos through a web-based system, such as the FAA's Integrated Airman Certification and/or Rating Application (IACRA). They said that submitting applications online would save time for pilots, especially those pilots living in rural areas. Some commenters stated that even if the FAA still required in-person application submissions in some instances, electronic submissions would at least be easier for the FSDO or FAA designee to handle than paper submissions. Electronic submissions would also reach the FAA faster than paper submissions, reducing delays in processing applications and issuing certificates. SAFE, NAFI, and HAI supported this idea.

Sixteen commenters suggested the FAA authorize the U.S. Postal Service to accept pilot certificate applications and photos and to verify the identity of the applicant, similar to the way many post offices accept passport applications. The commenters noted that most pilots live closer to a post office than to a FSDO or pilot school. The commenters also noted the hours of operation for post offices are often more convenient.

Another suggestion from seven commenters was to work in conjunction with the U.S. State Department because of its experience issuing passports with photos. These commenters stated that pilots who already have U.S. passports could save time and money if the FAA had a method of accessing the passport photo database and adding those photos to pilot certificates. Since the FAA's proposal for photo requirements is identical to the requirements for passport photos, the commenters believed the photos in the passport database should be adequate for use on pilot certificates.

Several commenters suggested increasing the types of persons the FAA could use as designees to accept applications and verify identities. Among the persons suggested as additional FAA designees were ACRs, flight instructors, and carrier personnel such as check airmen and directors of training and operations. The commenters believed that authorizing more persons to accept applications and verify identities would make the application process more convenient for pilots.

Finally, a few commenters, including EAA, suggested that the FAA accept pilot certificate applications and photos at major aviation events such as AirVenture Oshkosh and Sun `n Fun. They stated that since the FAA usually sends representatives to such events, it would be logical to allow those representatives to accept applications and photos and verify identities. It would also be convenient for pilots who live far from a FSDO or other designated portal, but who regularly attend these events.

As stated earlier, the FAA withdraws the proposal to issue pilot certificates with a photo. The FAA will consider the additional suggestions as it develops an NPRM for Pilot Certificate with Photograph and Biometric Information (RIN 2120-AK33).

C. Requiring Student Pilots To Obtain a Plastic Pilot Certificate

Under current regulations, student pilots hold paper certificates. Paper student pilot certificates are valid for either 24 or 60 calendar months, depending on the age of the student pilot at the time of issuance.

In the NPRM, the FAA proposed to treat student pilots like other pilots and require them to obtain a plastic student pilot certificate with a photo. The FAA proposed that the new student pilot certificate would not have an expiration date. However, the student pilot would have to renew the photo every 8 years in order to continue exercising the privileges of the student pilot certificate. The FAA proposed that only the FAA Civil Aviation Registry would issue pilot certificates with a photo. DPEs and AMEs would no longer issue student pilot certificates. DPEs, however, would be able to accept applications for student pilot certificates with photo. Additionally, the FAA proposed that because new student pilot certificates would be plastic, flight instructors would endorse only student pilot logbooks instead of student pilot certificates and logbooks.

This final rule will require persons to apply for a student pilot certificate at a FSDO, through a DPE, with an ACR associated with a part 141 pilot school, or with a CFI. The applicant must receive a plastic student pilot certificate from the Civil Aviation Registry prior to exercising the privileges of a student pilot certificate (i.e., conducting a solo flight). However, the FAA will allow current student pilot certificate holders to continue exercising privileges of their student pilot certificate until the certificate expires according to § 61.19(b). In other words, this final rule does not require the holder of a paper student pilot certificate to surrender that certificate and replace it with a plastic student pilot certificate. Student pilot applicants will no longer be able to obtain paper student pilot certificates at the time of application. This final rule eliminates the need for FAA Form 8710-2, the Student Pilot Certificate. As discussed earlier, the FAA withdraws the portion of this proposal related to including a photo of the pilot on the pilot certificate, as well as the requirement that the photo be renewed every 8 years.

Numerous commenters questioned the proposed application process for a student pilot certificate, as discussed earlier with respect to all pilot certificates. An individual commenter suggested that CFIs could verify a student pilot applicant's photograph identification and enter the data into IACRA for transmittal to the Civil Aviation Registry. Permitting CFIs to accept applications for student pilot certificates would reduce the burden on applicants.

In light of the comments, and because of the narrower scope of this final rule, the FAA has reconsidered who may accept an application.

As proposed, AMEs will not issue a combination medical certificate and student pilot certificate at the time of a medical examination nor accept an application for a student pilot certificate. Accordingly, § 183.21 is amended to remove the privilege for AMEs to issue student pilot certificates.

Though not proposed, the FAA has concluded that permitting CFIs to accept a student pilot application significantly reduces the travel burden associated with a student pilot certificate application. A person applying for a student pilot certificate would engage and visit a CFI to conduct flight training, and an applicant could complete the application during any flight training session. Additionally, TSA regulations currently require CFIs to verify a student pilot's identity under 49 CFR 1552.3(h)(1). That section requires a flight school ¹² to endorse a pilot logbook verifying that the student is a U.S. citizen and presented identification prior to flight training, which likely would be the same time that a person would apply for a student pilot certificate. Accordingly, the privileges of a CFI under §§ 61.193 and 61.413 have been amended by this final rule to allow CFIs to accept a student pilot application, verify the applicant meets the eligibility requirements in § 61.83, and verify the applicant's identity in accordance with TSA security vetting requirements as described in Appendix 2 of Advisory Circular 61-65, Certification: Pilots and Flight and Ground Instructors. CFIs will not be able to issue a student pilot certificate and will follow the application acceptance process as discussed in the following paragraphs.

¹² TSA defines a flight school as any pilot school, flight training center, air carrier training facility, or flight instructor certificated under 14 CFR parts 61, 121, 135, 141, or 142. 49 CFR 1552.1(b).

Additionally, an ASI or AST at a FSDO, a DPE, or an ACR associated with a part 141 pilot school will continue to be able to accept an application and verify the applicant's identity, but they will not be able to issue a student pilot certificate. These individuals, along with CFIs, are referred to collectively as authorized individuals for the purposes of application acceptance in this discussion.

The FAA is withdrawing the proposal to permit KTCs to accept an application due to potential added costs to equip and train KTC personnel and also because KTC personnel currently are not authorized to accept an application for an airman certificate. Withdrawing the portion of the NPRM that requires all pilots to obtain a pilot certificate with a photo significantly reduces the number of individuals affected by this final rule. The reduced number of affected applicants does not justify the resources necessary to designate and train KTCs on accepting applications. Furthermore, by permitting CFIs to accept an application for a student pilot certificate, applicants will have no additional travel burden associated with their student pilot certificate application because they already will interact with a CFI for flight training.

The FAA expects that all authorized individuals will utilize IACRA for the purpose of accepting a student pilot application. IACRA is a Web-based certification/rating application that guides the user through the FAA's application process. The FAA notes that IACRA currently may be used to submit a student pilot application and therefore will not require substantial modifications to the Web-based application system. However, IACRA will be modified so a student pilot certificate will not be issued at the time of application.

A person who meets the eligibility requirements of a student pilot certificate may register as an applicant through IACRA which stores FAA form 8710-1 electronically until an authorized individual accesses the form. FAA form 8710-1 may be accessed by an authorized individual by searching for the person's unique FAA tracking number (FTN) assigned by an FAA internal system after the person has completed the required items on the student pilot application form. The authorized individual will verify that the applicant meets the regulatory eligibility requirements, and that the application has been completed properly. Additionally, the authorized individual will verify the applicant's identity in accordance with TSA security vetting requirements as described in Appendix 2 of Advisory Circular 61-65 and input the identification data into IACRA when prompted. Once the authorized individual has completed the application through IACRA, it will be transmitted electronically to the Civil Aviation Registry for processing.

All authorized individuals will have the ability to accept a student pilot application in paper format to ensure all applicants have uninterrupted ability to apply for an FAA student pilot certificate. The same information captured on the paper FAA form 8710-1 is captured within IACRA. However, once the authorized individual verifies that the application is complete in accordance with the form's instructions and FAA Order 8900.1, the Flight Standards Information Management System, the individual will send the student pilot application to the Civil Aviation Registry via first-class mail. The FAA notes that the submittal of a paper FAA form 8710-1 may delay the issuance of a student pilot certificate because of mailing time. While an authorized individual has the ability to accept a paper FAA form 8710-1, the FAA anticipates that a majority of these applications will be submitted via IACRA.

Once a student pilot application is received, the Civil Aviation Registry will verify compliance and the accuracy of the application and provide the applicant's information to TSA for security vetting prior to certificate issuance. Under current FAA procedures, the FAA transmits a student pilot's biographic information for security vetting to TSA after certificate issuance. However, under this final rule, the Civil Aviation Registry will issue the student pilot certificate only after receiving a successful response from TSA. The Civil Aviation Registry will mail the student pilot certificate via U.S. Postal Service to the address listed on the application. All pilots will continue to be vetted perpetually thereafter.

Of the 65 commenters that addressed the proposal to require student pilots to obtain a plastic student pilot certificate with a photo, only two supported the proposal. They believed that students should be treated like any other pilot. One additional commenter stated that issuing student pilot certificates that do not expire would be an improvement over the current student pilot certificates that are only valid for 24 or 60 months, but the commenter did not address any other aspects of the student pilot certificate proposal.

Forty-nine commenters believed student pilots should be exempt from the requirement to have a plastic certificate with a photo. Most of these commenters, including HAI, AOPA, NATA, EAA, NAFI, and SAFE, expressed the belief that the projected 6 to 8 week delay, as stated in the NPRM, in waiting for a plastic certificate with a photo would be a serious burden for student pilots, who could not fly solo without the certificate. Commenters believed that the wait time might discourage students from completing their training or from even starting training. The result, these commenters claimed, would be a negative impact on flight schools and flight instructors. Additionally, some commenters stated that since students are under the guidance and supervision of a flight instructor, they pose less of a security risk and should be exempt from the proposed requirements.

The FAA will take steps to expedite student pilot applications in order for students to receive their student pilot certificates so they may exercise the privileges of the certificate as soon as feasible. The FAA estimates that the turnaround time for student pilot certificates can be reduced to an average of 3 weeks or less, provided that initial security vetting by TSA indicates that the applicant is eligible for the certificate. If an applicant is deemed ineligible by TSA on security grounds, he or she will be able to seek redress through TSA's administrative procedures.

Thirteen commenters suggested that if students must obtain a plastic certificate with a photo, they should immediately receive a temporary paper certificate (with or without a photo) that would allow them to fly solo while waiting to receive the plastic certificate with photo. Organizations that proposed a temporary student pilot certificate included SAFE, NAFI, and AOPA; although all three believed students should ideally be exempted from the requirement to hold a certificate with a photo.

IRTPA required that security vetting of all individuals, including pilots, must be successfully completed by TSA before the FAA issues a certificate. Therefore, applicants for student pilot certificates must be vetted to receive their certificates and operate an aircraft as pilot in command.

Seventeen commenters specifically addressed the proposal to remove AMEs from the student pilot certification process, including NATA, EAA, and SAFE. All 17 opposed the proposal. EAA and other commenters indicated that not allowing AMEs to issue student pilot certificates would create additional burdens for students, who would have to make a trip to another location for their certificate. NATA asked that the FAA continue the issuance and use policies and procedures already in place for paper student pilot certificates. Some, including SAFE, suggested that AMEs should at least be able to accept student pilot applications and photos. Others disagreed with the FAA's assertion that requiring AMEs to verify a student's identity would be a burden on the AME. They noted that AMEs already must verify an applicant's identity in order to assure the students they are examining are who they claim to be.

To address the IRTPA mandates, the FAA's Civil Aviation Registry will issue plastic, tamper-resistant student pilot certificates following successful security vetting of the applicant. AMEs are required, under § 67.4, to verify the identity of an applicant for a medical certificate; however, they are not required to have the capability to produce plastic, tamper-resistant certificates, nor do they have the authority to make security vetting determinations about applicants. The FAA considered allowing student pilot applicants to continue to make application with an AME to maintain convenience for student pilot applicants. Ultimately the Agency determined that AMEs, who are physicians, should focus on the medical qualifications of an applicant rather than on airman certification activities that are within the expertise of other FAA designees.

In addition, the advent of IACRA, an online application system that replaces paper-based systems, has significantly increased FAA data safeguarding, maintenance, and safety oversight responsibilities. The current combination student pilot and medical certificate, issued by AMEs, dates from the paper-based era and does not take advantage of technological advances that have improved the airman certification process. Integrating the data collected by an AME into the centralized Civil Aviation Registry system presents significant technological and administrative challenges. By necessity for privacy reasons, the IACRA system and the medical certification systems must be kept separate. The FAA's recordkeeping and personal identity information protection would be compromised if the FAA's medical application and airman application databases were fully integrated. Currently, IACRA does not have a role developed to allow AMEs to utilize the system to process a student pilot application, and creation of such a role would require training and oversight by a different FAA line of business than that which typically supports AMEs. This duplication of oversight and use of multiple systems by AMEs would not only increase the likelihood of errors but also would reverse the FAA's efforts to decrease duplication and redundancy. Accordingly, the FAA has determined that data is better safeguarded by keeping medical and operational certification processes and oversight separate and distinct. Doing so necessitates separate medical and operational electronic portals to remove any possibility of data spillage. Keeping the processes and oversight separate also allows medical certification and airman certification personnel and designees to focus on the duties within their respective areas of expertise, thus improving regulatory compliance and the overall user experience.

In addition, given the statutory requirement to complete security vetting before issuing a certificate, the AME process of issuing student pilot certificates is no longer viable. In this regard, the FAA realized that it would not be efficient to continue to issue two separate types of student pilot certificates. The most efficient option is to dedicate centralized Civil Aviation Registry resources to the certification process. Therefore, the Civil Aviation Registry will issue a student pilot certificate after successful completion of TSA security vetting based on a student pilot's application which is made either at a FSDO, through a DPE, with an ACR associated with a part 141 pilot school, or with a CFI.

This final rule permits CFIs (as well as other operational designees) to accept student pilot certificate applications to minimize burdens on those applicants. Streamlining the application process by expanding the use of CFIs and other operational designees, even though the Agency is removing AMEs, will maintain applicant portal options and allow for enhanced FAA oversight capability of the pilot certification process. In the overwhelming majority of circumstances, a person seeking to pursue pilot certification will encounter a CFI (or an ACR at a part 141 pilot school) significantly before that person encounters an AME. Accordingly, the FAA has determined this final rule reduces the burden on a student pilot applicant while also streamlining FAA processes.

Because student pilot certificates now will be issued without an expiration date, the process for obtaining a replacement certificate if the certificate is lost or destroyed will be the process under § 61.29 as is currently in place for other pilot certificates. Similarly, the current replacement fee of $2 under § 187.5 will apply.

Finally, as proposed, the FAA is amending various requirements concerning endorsements for student pilots. Because the FAA will issue plastic student pilot certificates, endorsements will be made only in the student pilot's logbook upon the effective date of this final rule regardless of whether a paper or plastic pilot certificate had been issued to the student at the time of issuance. In addition to the amendments in the NPRM, the FAA is amending §§ 61.415 and 61.423 to remove the requirement to endorse the student pilot certificate.

D. Duration of Photo on Pilot Certificate

The FAA proposed to add an expiration date to the photo on the pilot certificate. The pilot would need to renew the photo every 8 years in order to continue to exercise the privileges of the certificate. Requiring pilots to update their photos would ensure that the photo on the certificate continued to resemble the pilot and to serve as an adequate proof of identity. The FAA's proposed 8-year photo duration matches the requirements for drivers licenses set forth in the Real ID Act of 2005.¹³ While the Real ID Act did not address pilot certificates, the FAA viewed the 8-year duration as Congress's latest expression on the appropriate validity for government identification.

¹³ Public Law 109-12, 119 Stat. 231 (May 11, 2005).

Of the 49 commenters who specifically mentioned the proposed photo duration period, 9 believed that 8 years was an acceptable timeframe. Among these supporters were NAFI and EAA. Five commenters objected to any photo expiration date, stating that the cost of having to renew the certificates was unacceptable. One commenter believed the photo should be updated more frequently than every 8 years, since an individual's appearance can change dramatically in a few years.

Thirty-four commenters believed the photo should have a 10-year duration, similar to U.S. passports. They stated that since the 10-year period was acceptable for an official government and internationally-recognized identification such as a passport, the same time period should be adequate for a pilot certificate. They also noted that increasing the time between required photo renewals would save pilots money over the course of a lifetime. Finally, some commenters favored a 10-year duration simply because 10 was a round number and easier to remember than 8 years.

As stated earlier, the FAA withdraws the proposal to issue pilot certificates with a photo and will consider the issue in a rulemaking to address the requirements of section 321 of Public Law 112-95. Accordingly, pilot certificates (including student pilot certificates) will continue to be issued without an expiration date.

E. Fees for Issuing Pilot Certificates With Photo

The FAA proposed a $22 fee for all new, replacement, upgraded, or renewed pilot (including student pilot) certificates with photo. The fee was intended to recover some of the costs of producing the certificates. While production costs per certificate exceed this amount, $22 is the maximum amount the FAA was permitted to charge under 49 U.S.C. 45302(b)-(c), which provided the statutory authority for the NPRM.

Of the 76 commenters that specifically mentioned the proposed $22 fee for a new, replacement, or renewed certificate with photo, 5 stated that the proposed amount was acceptable.

Of the remaining 71 comments, 38 stated that the proposed fee was too high but did not suggest what they thought would be an acceptable amount. Five commenters stated that the certificate should cost “no more than a driver's license,” but again did not provide an amount. Twenty-two commenters stated that since the pilot certificate with a photo was a Congressional mandate, there should be no fee. They contended expenses should be funded from the FAA's budget, from aviation fuel taxes, or from other fees pilots already pay.

Most commenters opposed to the fee claimed that it would be a financial burden on pilots in an already stressful economic climate. Many claimed the fee would decrease the number of people who would become pilots, and might force many current pilots to quit. Others said the fee should be rejected because it was just a way for the FAA to make money. One commenter believed the FAA is prohibited from enacting a user fee by a restriction placed in the FAA appropriations bill ¹⁴ that prohibits the FAA from promulgating “new aviation user fees not specifically authorized by law.” Two others requested that the FAA make provisions for low-income pilots.

¹⁴ Public Law 111-117, 123 Stat. 3040 (Dec. 16, 2009).

The FAA withdraws the proposal to charge a fee for certificate issuance. The FAA notes, however, that section 122 of Public Law 112-95 requires the FAA to charge a fee to recover the costs of certain airman certification and aircraft registration services. The FAA has initiated a rulemaking (RIN 2120-AK37) to implement that requirement and will publish an NPRM in the future.

F. Implementation Process

The FAA proposed a “trigger-based” and phased implementation approach for issuing pilot certificates with photo. The “trigger-based” approach would have required any pilot interacting with the FAA during the implementation period to apply for a pilot certificate with photo. Such interactions would have included obtaining or renewing flight instructor certificates, applying for a new pilot certificate or rating, applying for a student pilot certificate, or changing vital information (such as name, citizenship, date of birth or gender). The phased approach would have applied to pilots who do not have a triggering event during the implementation period. The phased approach would have consisted of different compliance dates for different categories of pilots. All pilots, whether affected by the “trigger-based” or phased approach, would have been required to have a pilot certificate with a photo no later than 5 years after the effective date of the final rule. These approaches were designed to balance the FAA's ability to receive and timely process applications for the certificates while maintaining the existing range of Agency services.

Of the 17 commenters that specifically addressed the proposed “trigger” and phased implementation process, 8 stated the proposal was acceptable as written. They agreed that staggering the implementation dates for different certificate holders would reduce the burden on the FAA and may improve application processing times. They also contended that requiring an upgrade to a photo certificate at a “triggering” event, such as adding a rating, would prevent pilots from waiting until the last minute to apply for their certificates with photo.

Three commenters suggested using a “trigger-only” approach for pilot applications. They stated that it would reduce the burden on pilots to allow them to continue flying with their current non-photo certificates until they met one of the “triggering” events. Otherwise, the pilot may have to make an initial trip to a FSDO to upgrade to the photo certificate, and then have to make an additional trip back to the FSDO not long afterwards in order to add a rating, resulting in an increased burden.

Three commenters suggested the FAA reduce the time pilots have to comply. They stated that because pilot certificates with a photo would increase safety and security, it would be better to have all pilots obtain the certificates as soon as possible. Three additional commenters, including NAFI, proposed having a single compliance date for all pilots. Two of these commenters, including NAFI, stated that a single compliance date would cause less confusion for pilots and would reduce the chances of a pilot accidentally failing to comply. The third commenter favored a single compliance date because staggered dates might give the impression of unequal treatment of one or more pilot communities.

As stated earlier, the FAA withdraws the requirement to obtain a pilot certificate with a photo.

G. Regulatory Evaluation

Four commenters, including AOPA, specifically mentioned the estimated total costs for airmen to comply with the proposal, as outlined in the Regulatory Evaluation. Each of the commenters disputed the accuracy of the cost figures and generally were opposed to expending scarce resources on the proposal given federal deficits and ongoing cost-cutting measures. One commenter stated that the high cost associated with the proposal was due to the FAA not considering more cost-effective and less onerous measures for accomplishing the same goal. All four commenters believed that the FAA should not be pursuing regulations that add to federal spending while offering few, if any, safety and security benefits.

AOPA commented that the FAA's 20-year cost estimates may be grossly underestimated, and stated that the actual total present value costs to airmen would likely be more than the estimated $235.8 million outlined in the proposal. AOPA also believed that total overall implementation costs would exceed the estimated $380.1 million, but did not provide additional input as to how it derived these conclusions. AOPA was further concerned that the true costs to airmen were uncertain considering the proposal discussed the possibility that fee increases may be imposed via the Federal Aviation Reauthorization bill (H.R. 915), then pending before Congress. AOPA believed the proposal equated to a significant economic impact to airmen and the associated costs far outweighed any potential benefits.

As stated earlier, the FAA withdraws most proposals in the NPRM. The FAA has revised the regulatory evaluation consistent with the adopted changes to student pilot certification. Further, and as stated earlier, the fees authorized in section 122 of Public Law 112-95 are being addressed in a separate rulemaking.

H. Miscellaneous Comments

1. Redesigning Pilot Certificate

Twelve commenters suggested that if the FAA planned to add photos to pilot certificates, other changes should be made to the certificates at the same time. Most suggestions were offered to improve legibility, such as increasing the font size; reducing the visual clutter by removing some less critical information, such as the pilot's address; and removing the image of the Wright Brothers. Other commenters suggested making the different levels of certificates (e.g., private pilot, commercial pilot, and ATP) easily distinguishable, either by using different background colors or different images.

Additionally, Transport Canada suggested the FAA replace the traditional pilot certificate with a certificate similar to the Canadian Aviation Document Booklet (ADB), to allow cross-sharing of data between Canada and the United States. The ADB resembles a passport and contains all of a pilot's licenses, permits, and medical certificates in one document. The licenses, permits, and medical certificates are issued through the mail as stick-on labels with security features. Security features include secure ink, bar codes, and complicated patterns designed to make forgery more difficult. As pilots add new ratings or licenses or update certificates, they add these labels to the ADB. The ADB also has a photo of the pilot. While no additional commenters specifically mentioned the ADB as a potential model, three commenters did suggest the FAA combine all certificates, including the medical certificate, into a single document to reduce the costs to pilots and to reduce the number of certificates a pilot must carry.

The FAA has determined that these suggestions are outside the scope of this rulemaking. Any changes to the pilot certificate would need to be addressed in a separate rulemaking. The FAA notes, however, that since publication of the NPRM, the FAA has increased the size of the font for the pilot's name, certificate level or type, and certificate number.

2. Proposed § 61.3—Requirements for Certificates, Ratings, and Authorizations

Two commenters believed the proposed language in § 61.3(a)(1)(v) was misleading. The proposed language stated that, “A person may not serve as a required crewmember of a civil aircraft of the United States, unless that person: when operating an aircraft in a foreign country, has a pilot license issued by that country.” The commenters noted that the language could be interpreted as requiring the pilot to have a license issued by the foreign country. That was not the FAA's intent. In a separate rulemaking (Certified Flight Instructor Flight Reviews; Recent Pilot in Command Experience; Airmen Online Services (RIN 2120-AK23) (78 FR 56822, September 16, 2013; confirmed at 78 FR 66261, November 5, 2013)), the FAA revised the language of § 61.3(a)(1)(v) to state that “(v) When operating an aircraft within a foreign country, a pilot license issued by that country may be used.”

V. Regulatory Notices and Analyses

A. Regulatory Evaluation

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule. The FAA suggests readers seeking greater detail read the full regulatory evaluation, a copy of which has been placed in the docket for this rulemaking.

In conducting these analyses, FAA has determined that this final rule: (1) Has benefits that justify its costs, (2) is not an economically “significant regulatory action” as defined in section 3(f) of Executive Order 12866, (3) is not “significant” as defined in DOT's Regulatory Policies and Procedures; (4) will not have a significant economic impact on a substantial number of small entities; (5) will not create unnecessary obstacles to the foreign commerce of the United States; and (6) will not impose an unfunded mandate on State, local, or tribal governments, or on the private sector, by exceeding the threshold identified above. These analyses are summarized below.

Total Benefits and Costs of This Rule

This final rule responds to section 4012 of the Intelligence Reform and Terrorism Prevention Act (IRTPA) by facilitating security vetting of all student pilot certificate applicants before the FAA issues a student pilot certificate. The FAA notes that following the direction of Congress provides a sufficient reasoned determination to justify the costs. These potential benefits are not quantifiable. The estimated cost of this final rule over 10 years is shown in the following table:

Total and Present Value Costs of the Final Rule
[2015-2024]
Affected group | Total cost: Lower | Total cost: Upper | Present value: 7 percent: Lower | Present value: 7 percent: Upper | Present value: 3 percent: Lower | Present value: 3 percent: Upper
| (Millions, 2014 $)
Student pilots | $7.1 | $11.0 | $5.0 | $7.7 | $6.1 | $9.4
FAA | $9.8 |  | $7.1 |  | $8.5
Authorized individuals | $0.07 |  | $0.05 |  | $0.06
Total | $17.0 | $20.9 | $12.2 | $14.9 | $14.7 | $18.0

Who is potentially affected by this Rule?

Student pilots who are applying for a student pilot certificate are potentially affected by this rule. In the year 2014, there were 120,546 active student pilots.¹⁵ Of these 120,546 active student pilots, 49,959 ¹⁶ (41.44 percent of the total) certificates were issued in 2014. Original student pilot certificates issued that year comprised 30.83 percent of the total for 2014, while the remaining 10.61 percent were replacement certificates. Since the total number of active student pilots is relatively stable over the years, the FAA assumes that an equal amount of students are leaving the program each year. The FAA estimates that these percentages will remain constant during the entire period of this analysis.

¹⁵ FAA U.S. Civil Airmen Statistics, 2014, Table 1, Estimated Active Airmen Certificates Held, http://www.faa.gov/data_research/aviation_data_statistics/civil_airmen_statistics/.

¹⁶ FAA U.S. Civil Airmen Statistics, Table 16 and Table 17 minus 1,854 since 1,854 is accounted for in Table 16 (49,261 − 1,854) + 2,552 = 49,959 http://www.faa.gov/data_research/aviation_data_statistics/civil_airmen_statistics/.

Cost Assumptions and Primary Sources of Information

• All costs are presented in 2014 dollars.

• Discount rates—a 7% base case with a 3% sensitivity analysis rate

• Period of analysis—2015 through 2024

• A range of $13 to $25.22 is used as the hourly rate of an airman's time as advised by Department of Transportation (DOT) guidance.

• $23.59 is the hourly rate for a CFI and ACR associated with a part 141 school.

• Numbers of student pilot certificates from the FAA U.S. Civil Airmen Statistics, 2014

Changes From the NPRM to the Final Rule

This action withdraws the proposal for pilot certificates to include a photo of the individual pilot. Additionally, this action withdraws the proposal to implement fees for pilot certificates.

Applicants must apply for a student pilot certificate through a FSDO, DPE, ACR associated with a part 141 pilot school, or CFI.

Newly issued student pilot certificates will not have an expiration date.

Comments on the NPRM recommended that FAA not remove the AME from the student pilot certificate application process because doing so will increase the financial burden on the student pilot by having him or her make an additional trip. The FAA has modified who may accept a student pilot application by withdrawing the KTCs and including CFIs as authorized individuals. This will reduce the burden on student pilot applicants since they already travel to CFIs for flight instruction.

These changes resulted in lower cost estimates than those published in the NPRM.

Benefits of This Rule

This final rule responds to section 4012 of the Intelligence Reform and Terrorism Prevention Act (IRTPA) by facilitating security vetting of all student pilot certificate applicants before the FAA issues a student pilot certificate. As Congress understood the unquantifiable benefits of section 4012 exceed the costs as discussed next.

Costs of This Rule

The compliance costs have three distinct components and are estimated over a ten-year period. The first component is the student pilot applicants' direct and indirect costs valued from $7.1 to $11 million. The second component is the costs incurred by the FAA's Civil Aviation Registry to process and issue a student pilot certificate for $9.8 million. TSA will not incur any additional costs as they already vet student pilots. Under this rule, TSA will conduct the vetting prior to the issuance of an FAA student pilot certificate. The third component is for the mailing expenses incurred by the authorized individual to mail the applications to FAA's Civil Aviation Registry for about $70,000. Total costs of this final rule are estimated to be from $17 to $20.9 million over a ten-year period.

Alternatives Considered

The alternative represents a situation in which the FAA would only allow ACRs associated with part 141 pilot schools, DPEs, and FSDOs to act as authorized individuals for receiving student pilot certificate applications. The outcome would be that student pilot applicants who do not go to a part 141 pilot school for flight instruction would have to make an additional trip to a DPE or a FSDO to apply for a student pilot certificate. This would increase the travel costs to the student pilot applicants. The FAA estimated the cost of this alternative to be from $19 to $30.6 million ($13.5-$21.8 million using a 7 percent discount rate and $16.3-$26.3 million using a 3 percent discount rate.), which is more expensive than the final rule.

B. Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide range of small entities, including small businesses, not-for-profit organizations, and small governmental jurisdictions.

Agencies must perform a review to determine whether a rule will have a significant economic impact on a substantial number of small entities. If the agency determines that it will, the agency must prepare a regulatory flexibility analysis as described in the RFA. Section 604 of the RFA requires agencies to prepare a final regulatory flexibility analysis (FRFA) describing the impact of final rules on small entities. Section 604(a) of the Act specifies the content of the FRFA.

If an agency determines that a rulemaking will not result in a significant economic impact on a substantial number of small entities, the head of the agency may so certify under section 605(b) of the RFA. The FAA believes that this final rule will not have a significant economic impact on a substantial number of entities, because student pilots are not small entities. There were no comments regarding the economic impact on student pilots received in response to the NPRM. Therefore, as provided in section 605(b), the head of the FAA certifies that this rulemaking will not result in a significant economic impact on a substantial number of small entities.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this final rule and determined that it will have only a domestic impact and therefore will not create unnecessary obstacles to the foreign commerce of the United States.

D. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $155.0 million in lieu of $100 million. This rule does not contain such a mandate; therefore, the requirements of Title II of the Act do not apply.

E. Paperwork Reduction Act

The Paperwork Reduction Act of 1995 (44 U.S.C. 3507(d)) requires that the FAA consider the impact of paperwork and other information collection burdens imposed on the public. According to the 1995 amendments to the Paperwork Reduction Act (5 CFR 1320.8(b)(2)(vi)), an agency may not collect or sponsor the collection of information, nor may it impose an information collection requirement unless it displays a currently valid Office of Management and Budget (OMB) control number.

This final rule will revise an existing information collection. As required by the Paperwork Reduction Act of 1995 (44 U.S.C. 3507(d)), the FAA has submitted these information collection amendments to OMB for its review. The Office of Management and Budget approved the amended information collection requirements under existing OMB Control Number 2120-0021.

Title: Certification: Pilots and Flight Instructors.

Abstract: 14 CFR part 61 prescribes certification standards for pilots, flight instructors, and ground instructors. The information collected is used to determine compliance with applicant eligibility, via FAA Form 8710-1.

Use of: The Airman certificate and/or Rating Application form and the required records, logbooks, and statements required by the federal regulations are submitted to Federal Aviation Administration (FAA) Flight Standards District Offices or its representatives to determine qualifications of the applicant for issuance of a pilot or instructor certificate, or rating or authorization.

Respondents (including number of): The FAA estimates, on average, there are 38,700 student pilots who will be required to provide information in accordance with the final rule annually. The respondents to this information requirement are student pilots regulated under part 61.

Frequency: The FAA estimates certificate holders will have a one-time information collection, and will then collect or report information occasionally thereafter.

Annual Burden Estimate: This final rule will result in a ten-year recordkeeping and reporting burden as follows:

Summary of Time and Costs

The FAA estimates 38,700 applications for new and replacement student pilot certificates will take 0.5 hours each to complete. The student airman certification program imposes a 19,350 hours reporting burden. Equation 1 below provides the basis for 19,350 hours.

(1) 38,700 new applications for original student pilot certificates × 0.5 hours = 19,350 hours

The estimated annual cost to respondents for the hour burdens resulting from the collection of information is $251,550. This cost is determined by estimating the time required for the applicants to complete and submit FAA Form 8710-1 applications. Even though the FAA is using the IACRA system, no significant change in time required to complete and submit this form will occur. Equation 2 below provides the basis for $251,550 in costs.

(2) 38,700 8710-1 Applications × 0.5 hours × $13 per hour ¹⁷= $251,550;

¹⁷ The lower rate of $13.00 is based on the Revised Departmental Guidance on Valuation of Travel Time in Economic Analysis, Table 4: Recommended Hourly Values of Travel Time Savings for in-vehicle local travel. This range is used to estimate the value of personal time forgone by the student pilot to complete an application form and related tasks. Further, these values have been grown by 1% for every year past 2014 as advised in DOT Departmental Guidance. https://www.dot.gov/sites/dot.gov/files/docs/USDOT%20VOT%20Guidance%202014.pdf. http://www.census.gov/hhes/www/income/data/historical/household/.

The following table provides the total cost to respondents over ten years, and includes present and annualized values using a seven and three percent discount rate.

Quantified Costs for Issuance of FAA Plastic Certificates
Estimate | Nominal (millions) | PV at 7% (millions) | Annualized at 7% (millions) | PV at 3% (millions) | Annualized at 3% (millions)
Total | $1.975 | $1.39 | $0.198 | $1.67 | $0.195

F. Privacy Impact Assessment

The FAA conducted a privacy impact assessment (PIA) of this rule as required by section 522(a)(5) of division H of the FY 2005 Omnibus Appropriations Act, Public Law 108-447, 118 Stat. 3268 (Dec. 8, 2004). The assessment considers any impacts of the final rule on the privacy of information in an identifiable form and related matters. The final rule would impact the handling of personally identifiable information (PII). The FAA has evaluated the risks and effects the rulemaking might have on collecting, storing, and sharing PII and has evaluated protections and alternative information handling processes in developing the final rule in order to mitigate potential privacy risks. The risks to the student pilot population are the same as the risks for other individuals who are required to hold FAA-issued certificates. The PIA for the following system currently incorporates the student pilot population: AVS Registry, also known as the Registry Modernization System (RMS). This PIA is available for review in the docket for this rulemaking, as well as via http://www.transportation.gov/individuals/privacy/privacy-impact-assessments.

G. International Compatibility and Cooperation

In keeping with U.S. obligations under the Convention on International Civil Aviation, it is FAA policy to conform to International Civil Aviation Organization (ICAO) Standards and Recommended Practices to the maximum extent practicable. The FAA has reviewed the corresponding ICAO Standards and Recommended Practices and has identified no differences with these regulations.

H. Environmental Analysis

FAA Order 1050.1F identifies FAA actions that are categorically excluded from preparation of an environmental assessment or environmental impact statement under the National Environmental Policy Act in the absence of extraordinary circumstances. The FAA has determined this rulemaking action qualifies for the categorical exclusion identified in paragraph 5-6.6f and involves no extraordinary circumstances.

VI. Executive Order Determinations

A. Executive Order 12866

See the “Regulatory Evaluation” discussion in the “Regulatory Notices and Analyses” section elsewhere in this preamble.

B. Executive Order 13132, Federalism

The FAA has analyzed this final rule under the principles and criteria of Executive Order 13132, Federalism. The agency determined that this action will not have a substantial direct effect on the States, or the relationship between the Federal Government and the States, or on the distribution of power and responsibilities among the various levels of government, and, therefore, does not have Federalism implications.

C. Executive Order 13211, Regulations That Significantly Affect Energy Supply, Distribution, or Use

The FAA analyzed this final rule under Executive Order 13211, Actions Concerning Regulations that Significantly Affect Energy Supply, Distribution, or Use (May 18, 2001). The agency has determined that it is not a “significant energy action” under the executive order and it is not likely to have a significant adverse effect on the supply, distribution, or use of energy.

D. Executive Order 13609, Promoting International Regulatory Cooperation

Executive Order 13609, Promoting International Regulatory Cooperation, (77 FR 26413, May 4, 2012) promotes international regulatory cooperation to meet shared challenges involving health, safety, labor, security, environmental, and other issues and to reduce, eliminate, or prevent unnecessary differences in regulatory requirements. The FAA has analyzed this action under the policies and agency responsibilities of Executive Order 13609, and has determined that this action would have no effect on international regulatory cooperation.

VII. How To Obtain Additional Information

A. Rulemaking Documents

An electronic copy of a rulemaking document may be obtained by using the Internet—

1. Search the Federal eRulemaking Portal (http://www.regulations.gov);

2. Visit the FAA's Regulations and Policies Web page at http://www.faa.gov/regulations_policies/ or

3. Access the Government Publishing Office's Web page at http://www.fdsys.gov.

Copies may also be obtained by sending a request (identified by notice, amendment, or docket number of this rulemaking) to the Federal Aviation Administration, Office of Rulemaking, ARM-1, 800 Independence Avenue SW., Washington, DC 20591, or by calling (202) 267-9677.

B. Comments Submitted to the Docket

Comments received may be viewed by going to http://www.regulations.gov and following the online instructions to search the docket number for this action. Anyone is able to search the electronic form of all comments received into any of the FAA's dockets by the name of the individual submitting the comment (or signing the comment, if submitted on behalf of an association, business, labor union, etc.).

C. Small Business Regulatory Enforcement Fairness Act

The Small Business Regulatory Enforcement Fairness Act (SBREFA) of 1996 requires FAA to comply with small entity requests for information or advice about compliance with statutes and regulations within its jurisdiction. A small entity with questions regarding this document may contact its local FAA official, or the person listed under the FOR FURTHER INFORMATION CONTACT, heading at the beginning of the preamble. To find out more about SBREFA on the Internet, visit http://www.faa.gov/regulations_policies/rulemaking/sbre_act/.

List of Subjects

14 CFR Part 61

Aircraft, Airmen, Aviation safety, Reporting and recordkeeping requirements, Security measures.

14 CFR Part 183

Aircraft, Airmen, Reporting and recordkeeping requirements.

The Amendment

In consideration of the foregoing, the Federal Aviation Administration amends chapter I of title 14, Code of Federal Regulations as follows:

PART 61—CERTIFICATION: PILOTS, FLIGHT INSTRUCTORS, AND GROUND INSTRUCTORS

1. The authority citation for part 61 is revised to read as follows:

Authority: 49 U.S.C. 106(f), 106(g), 40113, 44701-44703, 44707, 44709-44711, 44729, 44903, 45102-45103, 45301-45302.

2. Amend § 61.3 by revising paragraph (d)(2)(iv) to read as follows:

§ 61.3 Requirement for certificates, ratings, and authorizations.

* * * * *

(d) * * *

(2) * * *

(iv) Endorse a logbook for solo operating privileges.

* * * * *

3. Amend § 61.19 by revising the section heading and paragraphs (a), (b), and (c) to read as follows:

§ 61.19 Duration of pilot and instructor certificates and privileges.

(a) General. (1) The holder of a certificate with an expiration date may not, after that date, exercise the privileges of that certificate.

(2) Except for a certificate issued with an expiration date, a pilot certificate is valid unless it is surrendered, suspended, or revoked.

(b) Paper student pilot certificate. A student pilot certificate issued under this part prior to April 1, 2016 expires:

(1) For student pilots who have not reached their 40th birthday, 60 calendar months after the month of the date of examination shown on the medical certificate.

(2) For student pilots who have reached their 40th birthday, 24 calendar months after the month of the date of examination shown on the medical certificate.

(3) For student pilots seeking a glider rating, balloon rating, or a sport pilot certificate, 60 calendar months after the month of the date issued, regardless of the person's age.

(c) Pilot certificates. (1) A pilot certificate (including a student pilot certificate issued after April 1, 2016 issued under this part is issued without a specific expiration date.

(2) The holder of a pilot certificate issued on the basis of a foreign pilot license may exercise the privileges of that certificate only while that person's foreign pilot license is effective.

* * * * *

4. Revise § 61.85 to read as follows:

§ 61.85 Application.

An applicant for a student pilot certificate:

(a) Must make that application in a form acceptable to the Administrator; and

(b) Must submit the application to a Flight Standards District Office, a designated pilot examiner, an airman certification representative associated with a pilot school, a flight instructor, or other person authorized by the Administrator.

5. Amend § 61.87 by revising paragraphs (n) and (p)(3), removing paragraph (p)(4), redesignating paragraph (p)(5) as (p)(4), and revising newly redesignated (p)(4) to read as follows:

§ 61.87 Solo requirements for student pilots.

* * * * *

(n) Limitations on student pilots operating an aircraft in solo flight. A student pilot may not operate an aircraft in solo flight unless that student pilot has received an endorsement in the student's logbook for the specific make and model aircraft to be flown by an authorized instructor who gave the training within the 90 days preceding the date of the flight.

* * * * *

(p) * * *

(3) Determined the student pilot is proficient in the make and model of aircraft to be flown; and

(4) Endorsed the student pilot's logbook for the specific make and model aircraft to be flown, and that endorsement remains current for solo flight privileges, provided an authorized instructor updates the student's logbook every 90 days thereafter.

6. Amend § 61.93 by revising paragraphs (c)(1) and (c)(2) and adding paragraph (c)(3) to read as follows:

§ 61.93 Solo cross-country flight requirements.

* * * * *

(c) * * *

(1) A student pilot must have a solo cross-country endorsement from the authorized instructor who conducted the training that is placed in that person's logbook for the specific category of aircraft to be flown.

(2) A student pilot must have a solo cross-country endorsement from an authorized instructor that is placed in that person's logbook for the specific make and model of aircraft to be flown.

(3) For each cross-country flight, the authorized instructor who reviews the cross-country planning must make an endorsement in the person's logbook after reviewing that person's cross-country planning, as specified in paragraph (d) of this section. The endorsement must—

(i) Specify the make and model of aircraft to be flown;

(ii) State that the student's preflight planning and preparation is correct and that the student is prepared to make the flight safely under the known conditions; and

(iii) State that any limitations required by the student's authorized instructor are met.

* * * * *

7. Amend § 61.133 by revising paragraphs (a)(2)(i)(C) and (a)(2)(ii)(C) to read as follows:

§ 61.133 Commercial pilot privileges and limitations.

(a) * * *

(2) * * *

(i) * * *

(C) Endorse a pilot's logbook for solo operating privileges in an airship;

* * *

(ii) * * *

(C) Endorse a pilot's logbook for solo operating privileges in a balloon; and

* * * * *

8. Amend § 61.189 by revising paragraph (b)(1) to read as follows:

§ 61.189 Flight instructor records.

* * * * *

(b) * * *

(1) The name of each person whose logbook that instructor has endorsed for solo flight privileges, and the date of the endorsement; and

* * * * *

9. Revise § 61.193 to read as follows:

§ 61.193 Flight instructor privileges.

(a) A person who holds a flight instructor certificate is authorized within the limitations of that person's flight instructor certificate and ratings to train and issue endorsements that are required for:

(1) A student pilot certificate;

(2) A pilot certificate;

(3) A flight instructor certificate;

(4) A ground instructor certificate;

(5) An aircraft rating;

(6) An instrument rating;

(7) A flight review, operating privilege, or recency of experience requirement of this part;

(8) A practical test; and

(9) A knowledge test.

(b) A person who holds a flight instructor certificate is authorized, in a form and manner acceptable to the Administrator, to:

(1) Accept an application for a student pilot certificate;

(2) Verify the identity of the applicant; and

(3) Verify the applicant meets the eligibility requirements in § 61.83.

10. Amend § 61.195 by revising paragraphs (d)(1) introductory text and (d)(2) to read as follows:

§ 61.195 Flight instructor limitations and qualifications.

* * * * *

(d) * * *

(1) Student pilot's logbook for solo flight privileges, unless that flight instructor has—

* * *

(2) Student pilot's logbook for a solo cross-country flight, unless that flight instructor has determined the student's flight preparation, planning, equipment, and proposed procedures are adequate for the proposed flight under the existing conditions and within any limitations listed in the logbook that the instructor considers necessary for the safety of the flight;

* * * * *

11. Revise § 61.413 to read as follows:

§ 61.413 What are the privileges of my flight instructor certificate with a sport pilot rating?

(a) If you hold a flight instructor certificate with a sport pilot rating, you are authorized, within the limits of your certificate and rating, to provide training and endorsements that are required for, and relate to—

(1) A student pilot seeking a sport pilot certificate;

(2) A sport pilot certificate;

(3) A flight instructor certificate with a sport pilot rating;

(4) A powered parachute or weight-shift-control aircraft rating;

(5) Sport pilot privileges;

(6) A flight review or operating privilege for a sport pilot;

(7) A practical test for a sport pilot certificate, a private pilot certificate with a powered parachute or weight-shift-control aircraft rating or a flight instructor certificate with a sport pilot rating;

(8) A knowledge test for a sport pilot certificate, a private pilot certificate with a powered parachute or weight-shift-control aircraft rating or a flight instructor certificate with a sport pilot rating; and

(9) A proficiency check for an additional category or class privilege for a sport pilot certificate or a flight instructor certificate with a sport pilot rating.

(b) A person who holds a flight instructor certificate with a sport pilot rating is authorized, in a form and manner acceptable to the Administrator, to:

(1) Accept an application for a student pilot certificate;

(2) Verify the identity of the applicant; and

(3) Verify the applicant meets the eligibility requirements in § 61.83.

12. Amend § 61.415 by revising paragraphs (d)(1) introductory text, (d)(2), and (d)(3) introductory text to read as follows:

§ 61.415 What are the limits of a flight instructor certificate with a sport pilot rating?

* * * * *

(d) * * *

(1) Student pilot's logbook for solo flight privileges, unless you have—

* * *

(2) Student pilot's logbook for a solo cross-country flight, unless you have determined the student's flight preparation, planning, equipment, and proposed procedures are adequate for the proposed flight under the existing conditions and within any limitations listed in the logbook that you consider necessary for the safety of the flight.

(3) Student pilot's logbook for solo flight in Class B, C, and D airspace areas, at an airport within Class B, C, or D airspace and to from, through or on an airport having an operational control tower, unless you have—

* * * * *

13. Amend § 61.423 by revising paragraph (a)(2)(i) to read as follows:

§ 61.423 What are the recordkeeping requirements for a flight instructor with a sport pilot rating?

(a) * * *

(2) * * *

(i) Each person whose logbook you have endorsed for solo flight privileges.

* * * * *

PART 183—REPRESENTATIVES OF THE ADMINISTRATOR

14. The authority citation for part 183 is revised to read as follows:

Authority: 31 U.S.C. 9701; 49 U.S.C. 106(f), 106(g), 40113, 44702, 45303.

15. Amend § 183.21 by revising paragraph (c) and removing and reserving paragraph (d) to read as follows:

§ 183.21 Aviation Medical Examiners.

* * * * *

(c) Issue or deny medical certificates in accordance with part 67 of this chapter, subject to reconsideration by the Federal Air Surgeon or his or her authorized representatives within the FAA; and

(d) [Reserved.]

* * * * *

Issued in Washington, DC, under the authority of 49 U.S.C. 106(f), 44703, and Section 4022 of Public Law. 108-458 on December 24, 2015.
Michael P. Huerta,
Administrator.

[FR Doc. 2016-00199 Filed 1-11-16; 8:45 am]

BILLING CODE 4910-13-P